ENVIRONMENTAL PROTECTION AGENCY

40 CFR Part 52

[EPA-R01-OAR-2023-0297; FRL-11046-01-R1]

Air Plan Approval; Rhode Island; Organic Solvent Cleaning Regulation

AGENCY: Environmental Protection Agency (EPA).

ACTION: Proposed rule.

SUMMARY: The Environmental Protection Agency (EPA) is proposing to approve a State Implementation Plan (SIP) revision submitted by the State of Rhode Island. This SIP amendment consists of revisions to the Rhode Island Air Pollution Control Regulation No. 36, currently codified in Title 250 Department of Environmental Management, Chapter 120 Air Resources, Subchapter 05 Air Pollution Control, Part 36 Control of Emissions from Organic Solvent Cleaning (Part 36). The proposed SIP revisions include minor regulatory changes that were necessary to provide consistency with the federal regulations for National Emissions Standards for Hazardous Air Pollutants (NESHAP) for Halogenated Solvent Cleaning. This action is being taken under the Clean Air Act.

DATES: Written comments must be received on or before July 24, 2023.

ADDRESSES: Submit your comments, identified by Docket ID No. EPA-R01-OAR-2023-0297 at https://www.regulations.gov, or via email to kosin.michele@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Michele Kosin, Physical Scientist, Air Quality Branch, Air & Radiation Division (Mail Code 5-MI), U.S. Environmental Protection Agency, Region 1, 5 Post Office Square, Suite 100, Boston, Massachusetts 02109-3912; (617) 918-1175; kosin.michele@epa.gov.

SUPPLEMENTARY INFORMATION: Throughout this document whenever “we,” “us,” or “our” is used, we mean EPA.

Table of Contents

I. Background and Purpose

II. Description and Review of Submittals

III. Proposed Action

IV. Incorporation by Reference

V. Statutory and Executive Order Reviews

I. Background and Purpose

On September 3, 2020 (85 FR 54924), EPA approved a SIP revision demonstrating that Rhode Island meets the requirements of reasonably available control technology (RACT) for the two precursors for ground-level ozone, oxides of nitrogen (NOX) and volatile organic compounds (VOCs), set forth by the Clean air Act (CAA or Act) with respect to the 2008 and 2015 ozone National Ambient Air Quality Standard (NAAQSs or standards). Additionally, the 2020 action approved specific regulations that implement RACT requirements by limiting air emissions of NOX and VOC pollutants from solvent cleaning operations sources within the state. As part of this action, EPA approved the Rhode Island Air Pollution Control Regulation No. 36, currently codified in Title 250 Department of Environmental Management, Chapter 120 Air Resources, Subchapter 05 Air Pollution Control, Part 36—Control of Emissions from Organic Solvent Cleaning (Part 36) into the SIP. Prior to the 2020 action, EPA last approved the Part 36 regulations into the SIP on in 2012. See 77 FR 14691

On February 4, 2022, the Rhode Island Department of Environmental Management's Office of Air Resources (RI DEM) proposed minor revisions to Part 36 to make the rule fully consistent with the National Emissions Standards for Hazardous Air Pollutants (NESHAP) for Halogenated Solvent Cleaning (40 CFR part 63, subpart T) eliminating any inconsistencies between the federal regulation and the current state rule. On May 3, 2022, the RI DEM Deputy Administrator Office of Air Resources signed the amended Part 36, and it was filed with the Rhode Island Secretary of State on May 24, 2022, with an effective date of June 13, 2022. The amended regulation was authorized pursuant to R.I. General Laws § 42-17.1-2(19) and R.I. General Laws Chapter 23-23, as amended, and has been promulgated pursuant to the procedures set forth in the R.I. Administrative Procedures Act, R.I. General Laws Chapter 42-35. On June 9, 2022, the RI DEM submitted a request for EPA to incorporate the revisions to Part 36 into the Rhode Island SIP.

II. Description and Review of Submittals

On June 9, 2022, the RI DEM submitted to EPA an amended version of Part 36, Control of Emissions from Organic Solvent Cleaning, as a revision to the Rhode Island State Implementation Plan. The revisions to the Part 36 regulation ensure that Part 36 is fully consistent with the Halogenated Solvent Cleaning NESHAP at 40 CFR part 63, subpart T. Part 36 was revised to include the addition or amendment of several definitions consistent with the federal rule. In addition, RI DEM clarified the applicability of the rule.

Rhode Island made several minor changes to the Part 36 Organic Solvent Cleaning Rule. Specifically, RI DEM amended and added definitions to Section 36.5 in order to be consistent with the NESHAP, including definitions for air blanket, consumption, contaminants, cover, halogenated hazardous air pollutant solvent, high precision products, hoist, industrial solvent cleaning, janitorial cleaning, overall control device efficiency, part, soils, solvent/air interface area, sump heater, and vapor cleaning. The applicability section of Section 36.6 was also slightly revised at 36.6(C) to clarify the applicability for cold solvent cleaning machines and at 36.6(D) to clarify applicability for industrial solvent cleaning, consistent with the NESHAP. In addition, several other minor clerical revisions were made to correct formatting and other references as a result of the changes above.

The revisions discussed above serve to clarify the existing regulation and are not intended to significantly impact its original meaning. The revisions to Part 36 are generally non-substantive changes to ensure consistency between the state and federal rule. We have scrutinized the changes as described above and find that these do not unfavorably affect the stringency of the State's program or impact previous EPA SIP approvals for Part 36. We thus propose to find that Rhode Island's amended 250-RICR-120-05-36 (Part 36) submittal remains consistent with the Clean Air Act.

III. Proposed Action

EPA is proposing to approve the Rhode Island SIP revision requests as described above. The SIP revisions meet section 110(l) of the CAA because the revisions will not interfere with any applicable requirement concerning attainment and reasonable further process, or any other applicable requirement of the CAA. EPA is soliciting public comments on the issues discussed in this notice or on other relevant matters. These comments will be considered before taking final action. Interested parties may participate in the Federal rulemaking procedure by submitting written comments to this proposed rule by following the instructions listed in the ADDRESSES section of this Federal Register.

IV. Incorporation by Reference

In this rule, the EPA is proposing to include in a final EPA rule regulatory text that includes incorporation by reference. In accordance with requirements of 1 CFR 51.5, the EPA is proposing to incorporate by reference amended Rhode Island regulation Part 36, Control of Emissions from Organic Solvent Cleaning. The proposed changes are described in sections I. and II. of this document. The EPA has made, and will continue to make, these documents generally available through https://www.regulations.gov and at the EPA Region 1 Office (please contact the person identified in the FOR FURTHER INFORMATION CONTACT section of this preamble for more information).

V. Statutory and Executive Order Reviews

Under the Clean Air Act, the Administrator is required to approve a SIP submission that complies with the provisions of the Act and applicable Federal regulations. See 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

• In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The RI DEM did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

List of Subjects in 40 CFR Part 52

Environmental protection, Air pollution control, Incorporation by reference, Ozone, Reporting and recordkeeping requirements, Volatile organic compounds.

Dated: June 14, 2023.
David Cash,
Regional Administrator, EPA Region 1.

[FR Doc. 2023-13229 Filed 6-22-23; 8:45 am]

BILLING CODE 6560-50-P